Title 3—

The President

Proclamation 9219 of December 9, 2014

Human Rights Day and Human Rights Week, 2014

By the President of the United States of America

A Proclamation

On December 10, 1948, nations from six continents came together to adopt the Universal Declaration of Human Rights. This extraordinary document affirmed that every individual is born equal with inalienable rights, and it is the responsibility of governments to uphold these rights. In more than 430 translations, the Declaration recognizes the inherent dignity and worth of all people and supports their right to chart their own destinies. On the anniversary of this human rights milestone, we join with all those who are willing to strive for a brighter future, and together, we continue our work to build the world our children deserve.

The desires for freedom and opportunity are universal, and around the world, yearnings for the rule of law and self-determination burn within the hearts of all women and men. When people can raise their voices and hold their leaders accountable, governments are more responsive and more effective. Children who are able to lead healthy lives and pursue an education without fear are free to spark progress and contribute to thriving communities. And when citizens are empowered to pursue their full measure of happiness without restraint, they help ensure that economies grow, stability and prosperity spread, and nations flourish. Protecting human rights around the globe extends the promise of democracy and bolsters the values that serve as a basis for peace in our world.

It is our obligation as free peoples to stand with courageous individuals who raise their voices to demand universal rights. Under extremely difficult circumstances—and often at grave personal risk—brave human rights defenders and civil society activists throughout the world are working to actualize the rights and freedoms that are the birthright of all humankind. The United States will continue to support all those who champion these fundamental principles, and we will never stop speaking out for the human rights of all individuals at home and abroad. It is part of who we are as a people and what we stand for as a Nation.

My Administration supports free and fair elections, and we will always oppose efforts by foreign governments to restrict the freedoms of peaceful assembly, association, and expression. We will continue to defend the rights of ethnic and religious minorities, call for the release of all who are unjustly detained, and insist that lesbian, gay, bisexual, and transgender persons be treated equally under the law. We will press forward in our efforts to end the scourge of human trafficking, our fight to ensure the protection of refugees and other displaced persons, and our tireless work to empower women and girls worldwide.

The United States will always lift up those who seek to work for the world as it should be. This is part of American leadership. On Human Rights Day and during Human Rights Week, let us continue our urgent task of rejecting hatred in whatever form it takes and recommit to fostering a global community where every person can achieve their dreams and contribute to humankind.

NOW, THEREFORE, I, BARACK OBAMA, President of the United States of America, by virtue of the authority vested in me by the Constitution and the laws of the United States, do hereby proclaim December 10, 2014, as Human Rights Day and the week beginning December 10, 2014, as Human Rights Week. I call upon the people of the United States to mark these observances with appropriate ceremonies and activities.

IN WITNESS WHEREOF, I have hereunto set my hand this ninth day of December, in the year of our Lord two thousand fourteen, and of the Independence of the United States of America the two hundred and thirty-ninth.

[FR Doc. 2014-29400

Filed 12-11-14; 11:15 am]

Billing code 3295-F5